SECURITIES AND EXCHANGE COMMISSION

17 CFR Parts 270 and 274

[Release No. IC-31184A; File No. S7-07-11]

RIN 3235-AL02

Removal of Certain References to Credit Ratings and Amendment to the Issuer Diversification Requirement in the Money Market Fund Rule; Correction

AGENCY: Securities and Exchange Commission.

ACTION: Re-proposed rule; proposed rule; correction.

SUMMARY: On August 14, 2014, the Securities and Exchange Commission (“Commission”) published a document in the Federal Register (79 FR 47986). The document contained an incorrect RIN. The Commission is publishing this document to correct that RIN.

DATES: Effective on September 2, 2014.

FOR FURTHER INFORMATION CONTACT: Erin C. Loomis, Senior Counsel; Amanda Hollander Wagner, Senior Counsel; Penelope W. Saltzman, Senior Special Counsel; Investment Company Rulemaking Office, at (202) 551-6792, Division of Investment Management, Securities and Exchange Commission, 100 F Street NE., Washington, DC 20549-8549.

Correction

In the Federal Register of August 14, 2014, in FR Doc. 2014-17746, on page 47986, in the first column, seventh line, the RIN is corrected to read as noted above.

Dated: August 27, 2014.
Kevin M. O'Neill,
Deputy Secretary.

[FR Doc. 2014-20731 Filed 8-29-14; 8:45 am]

BILLING CODE P